COMMISSION ON CIVIL RIGHTS

Agenda and Notice of Public Meeting of the Michigan Advisory Committee

Notice is hereby given, pursuant to the provisions of the rules and regulations of the U.S. Commission on Civil Rights (Commission), and the Federal Advisory Committee Act (FACA), that a briefing meeting of the Michigan Advisory Committee to the Commission will convene at 9:30 a.m. and adjourn at 1 p.m. on June 18, 2010, at the Spencer Partich Auditorium at Wayne State University Law School, 471 W. Palmer, Detroit, Michigan. The purpose of the meeting is to have an orientation for new members and hold a briefing on a proposed immigration bill in Michigan. State Representative Kim Meltzer, the bill sponsor, will be in attendance as will other proponents and opponents of the bill.

Members of the public are entitled to submit written comments; the comments must be received in the regional office by July 1, 2010. The address is 55 W. Monroe St., Suite 410, Chicago, IL 60603. Persons wishing to email their comments, or to present their comments verbally at the meeting, or who desire additional information should contact Carolyn Allen, Administrative Assistant, Midwestern Regional Office, U.S. Commission on Civil Rights, at (312) 353-8311, or by e-mail: callen@usccr.gov.

Hearing-impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, http://www.usccr.gov, or to contact the Midwestern Regional Office at the above e-mail or street address.

The meeting will be conducted pursuant to the provisions of the rules and regulations of the Commission and FACA.

Dated in Washington, DC, May 19, 2010.
Peter Minarik,
Chief, Regional Programs Coordination Unit.

[FR Doc. 2010-12401 Filed 5-21-10; 8:45 am]

BILLING CODE 6335-01-P